DEPARTMENT OF ENERGY

Environmental Management Site-Specific Advisory Board Chairs

AGENCY: Department of Energy.

ACTION: Notice of open meeting.

SUMMARY: This notice announces a meeting of the Environmental Management Site-Specific Advisory Board (EM SSAB) Chairs. The Federal Advisory Committee Act (Pub. L. 92-463, 86 Stat. 770) requires that public notice of this meeting be announced in the Federal Register.

DATES: Wednesday, March 18, 2009, 8 a.m.-5:30 p.m. Thursday, March 19, 2009, 8 a.m.-12:30 p.m.

ADDRESSES: Augusta Marriott Hotel & Suites, Two Tenth Street, Augusta, Georgia, Phone: (706) 722-8900, Fax: (706) 823-6513.

FOR FURTHER INFORMATION CONTACT: Catherine Alexander Brennan, Designated Federal Officer, U.S. Department of Energy, 1000 Independence Avenue, SW., Washington, DC 20585; Phone: (202) 586-7711.

SUPPLEMENTARY INFORMATION: Purpose of the Board: The purpose of the Board is to make recommendations to DOE-EM in the areas of environmental restoration, waste management, and related activities.

Tentative Agenda Topics:

Wednesday, March 18, 2009

○ EM Visions and Priorities—2009 and Beyond Discussion.

○ Round Robin: Top Three Site-Specific Issues and EM SSAB Accomplishments.

○ EM Headquarters Update and Initiatives: EM Budget and Technology Issues.

○ Savannah River Site Presentations.

○ EM SSAB Chairs' Roundtable Discussion.

Thursday, March 19, 2009

○ Waste Disposition Presentation.

○ EM SSAB Chairs' Roundtable Discussion.

○ Savannah River Site E-Meeting Demonstration.

Public Participation: The EM SSAB Chairs welcomes the attendance of the public at its advisory committee meetings and will make every effort to accommodate persons with physical disabilities or special needs. If you require special accommodations due to a disability, please contact Catherine Alexander Brennan at least seven days in advance of the meeting at the phone number listed above. Written statements may be filed either before or after the meeting with the Designated Federal Officer, Catherine Alexander Brennan, at the address or telephone listed above. Individuals who wish to make oral statements pertaining to agenda items should also contact Catherine Alexander Brennan. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling Catherine Alexander Brennan at the address or phone number listed above. Minutes will also be available at the following Web site: http://www.em.doe.gov/stakepages/ssabchairs.aspx.

Issued at Washington, DC on February 19, 2009.
Rachel Samuel,
Deputy Committee Management Officer.

[FR Doc. E9-4105 Filed 2-25-09; 8:45 am]

BILLING CODE 6450-01-P